DEPARTMENT OF ENERGY

Federal Energy Regulatory Commission

[Docket No. EL22-41-000]

Puget Sound Energy, Inc.; Notice of Conference Call

On Thursday, June 2, 2022, Commission staff will hold a conference call with Puget Sound Energy, Inc. (Puget Sound) beginning at 11:00 a.m. (Eastern Time). The purpose of the conference call is to discuss Puget Sound's formula rate protocols. The discussion during the conference call will be limited to this matter.

All interested parties are invited to listen by phone. The conference call will not be webcasted or transcribed. However, an audio listen-only line will be provided. Those wishing to access the listen-only line must email Patricia Dalton at patricia.dalton@ferc.gov by 5:00 p.m. (Eastern Time) on Tuesday, May 31, 2022, with your name, email, and phone number, in order to receive the call-in information before the conference call. Please use the following text for the subject line, “EL22-41-000 listen-only line registration.”

Commission conferences are accessible under section 508 of the Rehabilitation Act of 1973. For accessibility accommodations, please send an email to accessibility@ferc.gov or call toll free 1 (866) 208-3372 (voice) or (202) 208-1659 (TTY), or send a FAX to (202) 208-2106 with the required accommodations.

For additional information, please contact Patricia Dalton at (202) 502-8044 or patricia.dalton@ferc.gov.

Dated: May 24, 2022.
Debbie-Anne A. Reese,
Deputy Secretary.

[FR Doc. 2022-11625 Filed 5-27-22; 8:45 am]

BILLING CODE 6717-01-P